FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3743F.

Name: Pac-Power Freight Systems, Inc.

Address: 8366 Isis Avenue, Los Angeles, CA 90045

Date Revoked: July 30, 2001.

Reason: Surrendered license voluntarily.

License Number: 4366NF.

Name: Seven Ocean Services, Ltd.

Address: 2669 Myrtle Avenue, Suite 201, Signal Hill, CA 90806

Date Revoked: June 21, 2001.

Reason: Surrendered license voluntarily.

License Number: 1864F.

Name: Transcontinental Exports Limited

Address: 523 Old Northwest Hwy., Suite 202D, Barrington, IL 60010

Date Revoked: July 10, 2001.

Reason: Surrendered license voluntarily.

License Number: 3457F.

Name: Transport International Services

Address: 9111 Katy Freeway, Suite 312, Houston, TX 77024

Date Revoked: July 25, 2001.

Reason: Surrendered license voluntarily.

Sandra L. Kusumoto,
Director, Bureau of Consumer Complaints and Licensing.

[FR Doc. 01-22445 Filed 9-6-01; 8:45 am]

BILLING CODE 6730-01-P